DEPARTMENT OF DEFENSE

Office of the Secretary

[Transmittal No. 21-65]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-65 with attached Policy Justification and Sensitivity of Technology.

Dated: April 19, 2023.
Aaron T. Siegel,
Alternate OSD Federal Register Liaison Officer, Department of Defense.

BILLING CODE 5001-06-P

BILLING CODE 5001-06-C

Transmittal No. 21-65

Notice of Proposed Issuance of Letter of Offer Pursuant to Section 36(b)(1) of the Arms Export Control Act, as amended

(i) Prospective Purchaser: Government of France

(ii) Total Estimated Value:

Major Defense Equipment * | $ .848 billion
Other | $ .473 billion
TOTAL | $1.321 billion

(iii) Description and Quantity or Quantities of Articles or Services under Consideration for Purchase:

Major Defense Equipment (MDE):

One (1) Electromagnetic Aircraft Launch System (EMALS), 2 Launcher Configuration

One (1) Advanced Arresting Gear (AAG), 3 Engine Configuration

Non-MDE:

Also included are land-based testing and test spares; shipboard install; testing and certification support; shipboard spares; peculiar support equipment; government furnished equipment; multi-purpose reconfigurable training system; operator and maintainer training; integrated electronic technical manuals; drawings and interface control documents; technical assistance; contractor engineering technical services; and other related elements of logistical and program support.

(iv) Military Department: Navy (FR-P-LID)

(v) Prior Related Cases, if any: FR-P-LIE, FR-P-GAG, FR-P-GXG

(vi) Sales Commission, Fee, etc., Paid, Offered, or Agreed to be Paid: None known

(vii) Sensitivity of Technology Contained in the Defense Article or Defense Services Proposed to be Sold: See Attached Annex

(viii) Date Report Delivered to Congress: December 21, 2021

* As defined in Section 47(6) of the Arms Export Control Act.

POLICY JUSTIFICATION

France—Electromagnetic Aircraft Launch System (EMALS) and Advanced Arresting Gear (AAG)

The Government of France has requested to buy one (1) Electromagnetic Aircraft Launch System (EMALS), 2 launcher configuration; and one (1) Advanced Arresting Gear (AAG), 3 engine configuration. Also included are land-based testing and test spares; shipboard install; testing and certification support; shipboard spares; peculiar support equipment; government furnished equipment; multi-purpose reconfigurable training system; operator and maintainer training; integrated electronic technical manuals; drawings and interface control documents; technical assistance; contractor engineering technical services; and other related elements of logistical and program support. The estimated total cost is $1.321 billion.

This proposed sale will support the foreign policy and national security of the United States by helping to improve security of a NATO ally which is an important force for political stability and economic progress in Europe.

The proposed sale will result in continuation of interoperability between the United States and France. EMALS and AAG will be incorporated in France's next-generation aircraft carrier program. France will have no difficulty absorbing this equipment into its armed forces.

The proposed sale of this equipment and support will not alter the basic military balance in the region.

The prime contractors will be General Atomics-Electromagnetic Systems Group, San Diego, CA; and Huntington Ingalls Industries, Newport News, VA. There are no known offset agreements proposed in conjunction with this potential sale.

Implementation of this proposed sale will require the assignment of approximately (40) U.S. Government and contractor representatives to France for 10 weeks per year in calendar years 2033-2038, to support shipboard system installation, commissioning, certification, aircraft compatibility testing, flight deck certification and sea trials.

There will be no adverse impact on U.S. defense readiness as a result of this proposed sale.

Transmittal No. 21-65

Notice of Proposed Issuance of Letter of Offer Pursuant to Section 36(b)(1) of the Arms Export Control Act

Annex

Item No. vii

(vii) Sensitivity of Technology:

1. Electromagnetic Aircraft Launch System/Advanced Arresting Gear (EMALS/AAG) are two separate but complementary systems that enhance operational capability and improve maintenance and logistics support onboard conventional catapult and arresting gear (CATOBAR) aircraft carriers.

2. The highest level of classification of defense articles, components, and services included in this potential sale is UNCLASSIFIED.

3. If a technologically advanced adversary obtains knowledge of the specific hardware and software elements, the information could be used to develop countermeasures or equivalent systems that might reduce weapon system effectiveness or be used in the development of a system with similar or advanced capabilities.

4. A determination has been made that France can provide substantially the same degree of protection for the sensitive technology being released as the U.S. Government. This proposed sale is necessary in furtherance of the U.S. foreign policy and national security objectives outlined in the Policy Justification.

5. All defense articles and services listed in this transmittal have been authorized for release and export to the Government of France.

[FR Doc. 2023-08578 Filed 4-21-23; 8:45 am]

BILLING CODE 5001-06-P